DEPARTMENT OF LABOR

Employment and Training Administration

Workforce Investment Act; Lower Living Standard Income Level

AGENCY: Employment and Training Administration, Labor.

ACTION: Notice of determination of lower living standard income level.

SUMMARY: Under Title I of the Workforce Investment Act of 1998 (Public Law 105-220), the Secretary of Labor annually determines the Lower Living Standard Income Level (LLSIL) for uses described in the Law. WIA defines the term “Low Income Individual” as one who qualifies under various criteria, including an individual who received income for a six-month period that does not exceed the higher of the poverty line or 70 percent of the lower living standard income level. This issuance provides the Secretary's annual LLSIL for 2002 and references the current 2002 Health and Human Services “Poverty Guidelines.”

EFFECTIVE DATE: This notice is effective on April 8, 2002.

ADDRESSES: Send written comments to: Mr. Haskel Lowery, Employment and Training Administration, Department of Labor, Room N-4464, 200 Constitution Avenue NW., Washington, DC 20210.

FOR FURTHER INFORMATION CONTACT: Mr. Haskel Lowery, Telephone 202-693-3608; Fax 202-693-3532 (these are not toll free numbers).

SUPPLEMENTARY INFORMATION: It is the purpose of the Workforce Investment Act of 1998 (WIA) “to provide workforce investment activities, through statewide and local workforce investment systems, that increase the employment, retention, and earnings of participants, and increase occupational skill attainment by participants, and, as a result, improve the quality of the workforce, reduce welfare dependency, and enhance the productivity and competiveness of the Nation.”

The LLSIL is used for several purposes under WIA: Specifically, WIA Section 101(25) defines the term “low income individual” for eligibility purposes, sections 127(b)(2)(C) and 132(b)(1)(IV) define the terms “disadvantage adult,” and “disadvantaged youth” in terms of the poverty line of LLSIL for purpose of State formula allotments. The Governor State/Local Workforce Investment Boards use the LLSIL for determining eligibility for youth, eligibility for employed adult workers for certain services, and for the Work Opportunity Tax Credit (WOTC), recently reauthorized until 2004. We encouraged the Governors and State/Local Workforce Investment Boards to consult WIA and its Regulations and Preamble at 29 CFR part 652 et al., for more specific guidance in applying the LLSIL to program requirements. The Department of Health and Human Services published the annual 2002 update of the poverty-level guidelines in the Federal Register at 67 FR 6931, (Feb. 14, 2002). The HHS 2002 Poverty guidelines may also be found on the Internet at: http://www.aspe.hhs.gov/poverty/02poverty.htm.

ETA plans to have the 2002 LLSIL available on its Web site at: [http://www.wdsc.doleta.gov/llsil/llsil2002.asp].

WIA Section 101(24) defines the LLSIL as “that income level (adjusted for regional, metropolitan, urban, and rural differences and family size) determined annually by the Secretary [of Labor] based on the most recent lower living family budget issued by the Secretary.” The most recent lower living family budget was issued by the Secretary of Labor in the fall of 1981. The four-person urban family budget estimates, previously published by the Bureau of Labor Statistics (BLS) provided the basis for the Secretary to determine the LLSIL. BLS terminated the four-person family budget series in 1982, after publication of the fall 1981 estimates. Currently BLS provides data to ETA, from which it develops the LLSIL tables.

The Employment and Training Administration (ETA) published the 2001 updates to the LLSIL in the Federal Register of May 9, 2001, at 66 FR 23737. This notice again updates the LLSIL to reflect cost of living increases for 2001 by applying the percentage change in the December 2001 Consumer Price Index for All Urban Consumers (CPI-U), compared with the December 2000, CPI-U, to each of the May 9, 2001, LLSIL figures. Those updated figures for a family of four are listed in Table 1 below by region for both metropolitan and nonmetropolitan areas. Figures in all of the accompanying tables are rounded up to the nearest ten. Since “low income individual,” “disadvantaged adult,” and “disadvantaged youth” maybe determined by family income at 70 percent of the LLSIL, pursuant to WIA Sections, 101(25), 127(b)(2)(C) and 132(b)(1)(B)(v)(IV), respectively, those figures are listed below as well.

Jurisdictions included in the various regions, based generally on Census Divisions of the U.S.

Department of Commerce, are as follows:

Northeast

Connecticut

Maine

Massachusetts

New Hampshire

New Jersey

New York

Pennsylvania

Rhode Island

Vermont

Virgin Islands

Midwest

Illinois

Indiana

Iowa

Kansas

Michigan

Minnesota

Missouri

Nebraska

North Dakota

Ohio

South Dakota

Wisconsin

South

Alabama

American Samoa

Arkansas

Delaware

District of Columbia

Florida

Georgia

Northern Marinas

Oklahoma

Palau

Puerto Rico

South Carolina

Kentucky

Louisiana

Marshall Islands

Maryland

Mississippi

Micronesia

North Carolina

Tennessee

Texas

Virginia

West Virginia

West

Arizona

California

Colorado

Idaho

Montana

Nevada

New Mexico

Oregon

Utah

Washington

Wyoming

Additionally, separate figures have been provided for Alaska, Hawaii, and Guam as indicated in Table 2 below.

For Alaska, Hawaii, and Guam, the year 2002 figures were updated from the May 9, 2001, “State Index” based on the ratio of the urban change in the State (using Anchorage for Alaska and Honolulu for Hawaii and Guam) compared to the West regional metropolitan change, and then applying that index to the West regional metropolitan change.

Data on 23 selected Metropolitan Statistical Areas (MSAs) are also available. These are based on semiannual CPI-U changes for a 12 month period ending in December 2001. The updated LLSIL figures for these MSAs and 70 percent of the LLSIL are reported in Table 3 below.

Table 4 below lists each of the various figures at 70 percent of the updated 2001 LLSIL for family sizes of one to six persons. For families larger than six persons, an amount equal to the difference between the six-person and the five-person family income levels should be added to the six-person family income level for each additional person in the family. Where the poverty level for a particular family size is greater than the corresponding LLSIL figure, the figure is indicated in parentheses. Table 5, 100 percent of LLSIL, is used to determine self-sufficiency as noted at 20 CFR 663.230 of WIA Regulations and WIA section 134(d)(3)(A)(ii).

Use of These Data

Governors should designate the appropriate LLSILs for use within the State from Tables 1 through 3. Tables 4 and 5 may be used with any of the levels designated. The Governor's designation may be provided by disseminating information on Metropolitan Statistical Areas (MSAs) and metropolitan and nonmetropolitan areas within the State, or it may involve further calculations. For example, the State of New Jersey may have four or more LLSIL figures: Metropolitan, nonmetropolitan, for portions of the States in the New York City MSA, and for those in the Philadelphia MSA. If a workforce investment area includes areas that would be covered by more than on figure, the Governor may determine which is to be used. Under 20 CFR 661.220, a State's policies and measures for the workforce investment system shall be accepted by the Secretary to the extent that they are consistent with the WIA and the WIA regulations.

Disclaimer on Statistical Uses

It should be noted that the publication of these figures is only for the purpose of meeting the requirements specified by WIA as defined in the law and regulations. BLS has not revised the lower living family budget since 1981, and has no plans to do so. The four-person urban family budget estimates series has been terminated. The CPI-U adjustments used to update the LLSIL for this publication are not precisely comparable, most notably because certain tax items were included in the 1981 LLSIL, but are not in the CPI-U. Thus, these figures should not be used for any statistical purposes, and are valid only for those purposed under the WIA as defined in the law and regulations.

Signed at Washington, DC, this 2nd day of April 2002.
Lorenzo D. Harrison,
Administrator, Office of Youth Services, Attachments.

BILLING CODE 4510-30-P

[FR Doc. 02-8383 Filed 4-5-02; 8:45 am]

BILLING CODE 4510-30-M